DEPARTMENT OF COMMERCE

National Oceanic and Atmospheric Administration

Science Advisory Board

AGENCY: Office of Oceanic and Atmospheric Research, National Oceanic and Atmospheric Administration, Department of Commerce (DOC).

ACTION: Notice of public meetings.

SUMMARY: This notice sets forth the schedule and proposed agenda of two meetings of the Science Advisory Board (SAB). The members will discuss issues outlined in the section on Matters to be considered.

DATES: There are two meetings: the first meeting is scheduled for July 5, 2017 from 3:00 to 5:00 p.m. Eastern Daylight Time (EDT) and the second meeting is scheduled for August 31, 2017 from 1:00 p.m. to 5:00 p.m. EDT. These times and the agenda topics described below are subject to change. For the latest agenda please refer to the SAB Web site: http://sab.noaa.gov/SABMeetings.aspx.

ADDRESSES: Conference call. Public access is available at: NOAA, SSMC 3 Room 11836, 1315 East-West Highway, Silver Spring, MD for the July 5 meeting and SSMC 3, Room 7836 for the August 31 meeting. Members of the public will not be able to dial in to this meeting.

FOR FURTHER INFORMATION CONTACT: Dr. Cynthia Decker, Executive Director, SSMC3, Room 11230, 1315 East-West Hwy., Silver Spring, MD 20910; Phone Number: 301-734-1156; Email: Cynthia.Decker@noaa.gov; or visit the SAB Web site at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The July 5, 2017 meeting will be open to public participation with a 5-minute public comment period at TBD PM EDT. The August 31, 2017 meeting will have a 5-minute public comment period at 5:20 p.m. EDT. The SAB expects that public statements presented at its meetings will not be repetitive of previously submitted verbal or written statements. In general, each individual or group making a verbal presentation will be limited to a total time of three minutes. Written comments for the July 5, 2017 meeting by June 28, 2017 and written comments for the August 31, 2017 meeting should be received in the SAB Executive Director's Office by August 24, 2017 to provide sufficient time for SAB review. Written comments received after by the SAB Executive Director after these dates will be distributed to the SAB, but may not be reviewed prior to the meeting date.

Special Accommodations: These meetings are physically accessible to people with disabilities. Requests for special accommodations may be directed to the Executive Director no later than 12 p.m. on June 28 for the July 5 meeting and by 12 p.m. on August 24 for the August 31 meeting.

Matters to be Considered: The meeting on July 5 will include discussions on short term work plan topics for the SAB and the revised Terms of Reference and proposed members for the proposed High Performance Computing subcommittee. The August 31 meeting will include further discussion on the SAB short term work plan and discussion of results of the subcommittee reviews. Meeting materials, including work products will be made available on the SAB Web site: http://sab.noaa.gov/SABMeetings.aspx.

Dated: May 22, 2017.
Paul Johnson,
Acting Deputy Chief Financial Officer/CAO, Office of Oceanic and Atmospheric Research, National Oceanic and Atmospheric Administration.

[FR Doc. 2017-10798 Filed 5-25-17; 8:45 am]

BILLING CODE 3510-KD-P